ENVIRONMENTAL PROTECTION AGENCY

[EPA-HQ-OW-2011-0465; FRL-9979-51-OW]

Proposed Information Collection Request; Comment Request; Water Quality Standards Regulation (Renewal)

AGENCY: Environmental Protection Agency (EPA).

ACTION: Notice.

SUMMARY: The Environmental Protection Agency is planning to submit an information collection request (ICR), “Water Quality Standards Regulation (Renewal)” (EPA ICR No. 0988.13, OMB Control No. 2040-0049) to the Office of Management and Budget (OMB) for review and approval in accordance with the Paperwork Reduction Act. Before doing so, the EPA is soliciting public comments on specific aspects of the proposed information collection as described below. This ICR renews the Water Quality Standards Regulation ICR (most recently approved in 2016) and consolidates the burden and costs associated with activities previously reported in ICRs for two recent rules affecting the WQS program: The Water Quality Standards Regulatory Revisions (approved in 2015), and the Revised Interpretation of Clean Water Act Tribal Provision (approved in 2016). An Agency may not conduct or sponsor and a person is not required to respond to a collection of information unless it displays a currently valid OMB control number.

DATES: Comments must be submitted on or before August 14, 2018.

ADDRESSES: Submit your comments, referencing Docket ID No. EPA-HQ-OW-2011-0465, online using www.regulations.gov (our preferred method), by email to ow-docket@epa.gov, or by mail to: EPA Docket Center, Environmental Protection Agency, Mail Code 28221T, 1200 Pennsylvania Ave. NW, Washington, DC 20460.

The EPA's policy is that all comments received will be included in the public docket without change including any personal information provided unless the comment includes profanity, threats, information claimed to be Confidential Business Information (CBI) or other information whose disclosure is restricted by statute.

FOR FURTHER INFORMATION CONTACT: Tanyan Bailey, Office of Water, Office of Science and Technology, Standards and Health Protection Division, (4305T), Environmental Protection Agency, 1200 Pennsylvania Ave. NW, Washington, DC 20460; telephone number: 202-564-3133; fax number: 202-566-0409; email address: bailey.tanyan@epa.gov.

SUPPLEMENTARY INFORMATION: Supporting documents which explain in detail the information that the EPA would be collecting are available in the public docket for this Information Collection Request (ICR) (Docket ID No. EPA-HQ-OW-2011-0465). The docket can be viewed online at www.regulations.gov or in person at the EPA Docket Center, WJC West, Room 3334, 1301 Constitution Ave., NW, Washington, DC. The telephone number for the Docket Center is 202-566-1744. For additional information about the EPA's public docket, visit http://www.epa.gov/dockets.

Pursuant to section 3506(c)(2)(A) of the Paperwork Reduction Act (PRA), the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and, (iv) minimize the burden of the collection of information on those who are to respond, including through the use of appropriate automated electronic, mechanical, or other technological collection techniques or other forms of information technology, e.g., permitting electronic submission of responses. The EPA will consider the comments received and amend the proposed ICR as appropriate. The final ICR package will then be submitted to OMB for review and approval. At that time, the EPA will issue another Federal Register notice to announce the submission of the ICR to OMB and the opportunity to submit additional comments to OMB.

Abstract: Water quality standards (WQS) under the Clean Water Act (hereafter referred to as “the Act”) are provisions of state,¹ tribal,² or federal law which consist of designated uses for waters of the United States, water quality criteria to protect those uses, and antidegradation requirements. WQS are established to protect public health or welfare, protect and enhance the quality of water, and serve the purposes of the Clean Water Act. Such standards serve the dual purposes of establishing the water quality goals for water bodies and serving as the regulatory basis for the establishment of water quality-based treatment controls and strategies beyond technology-based levels of treatment required by sections 301(b) and 306 of the Act. The WQS Regulation establishes the framework for states and authorized tribes to adopt standards, and for the EPA to review and approve or disapprove them. For the purposes of this ICR, the WQS Regulation consists of 40 CFR part 131 (Water Quality Standards), and portions of part 132 (Water Quality Guidance for the Great Lakes System) that are related to WQS.³ This ICR is for information collections needed to implement the WQS Regulation and required to obtain or retain benefits (e.g., relaxed regulatory requirements) under the WQS Regulation.

¹ “States” in the EPA's WQS Regulation and in this document includes the 50 states, the District of Columbia, Guam, the Commonwealth of Puerto Rico, the Virgin Islands, American Samoa, and the Commonwealth of the Northern Mariana Islands.

² “Tribes” in this document refers to federally recognized tribes and “authorized tribes” refers to those federally recognized Indian tribes with authority to administer a CWA WQS program.

³ These portions include 40 CFR 132.3, appendices A, B, C, D, E, and Procedures 1 and 2 of appendix F.

This ICR renews the WQS Regulation ICR, OMB control no. 2040-0049, expiration date 6/30/2019, and consolidates the burden and costs associated with activities previously reported in two related ICRs, which upon OMB approval will be discontinued as separate ICRs:

The WQS Regulatory Revisions ICR, OMB control no. 2040-0286, expiration date 12/31/2018; and,

The Revised Interpretation of Clean Water Act Tribal Provision ICR, OMB control no. 2040-0289, expiration date 7/31/2019.

This ICR renewal and consolidation describes the estimated burden for states, authorized tribes and certain Great Lakes dischargers associated with the information collections related to: Implementation of the requirements of 40 CFR part 131 (Water Quality Standards); implementation of the WQS portions of the 40 CFR part 132 (Water Quality Guidance for the Great Lakes System); tribal applications to be treated in a similar manner as a state (TAS); and, tribal requests for dispute resolution under CWA section 518(e). This ICR also covers periodic requests for voluntary WQS information from, or voluntary participation in workgroups by, state and tribes to ensure efficient and effective administration of the WQS program and further cooperative federalism.

Form Numbers: None.

Respondents/affected entities: Potential respondents to this ICR include: The 50 states, the District of Columbia, five territories, authorized tribes with EPA-approved Water Quality Standards (44 tribes as of May 2018), and a total of 18 additional tribal respondents over the three-year duration of the ICR (based on six additional tribal respondents expected to apply per year for TAS to administer the WQS program). In addition, an estimated total of 258 dischargers located in the Great Lakes watershed over the three-year duration of this ICR (based on an estimated 86 dischargers per year) could apply for certain forms of regulatory relief. The total number of potential respondents is thus 376. This corresponds to 2,693 responses per year (see draft Supporting Statement in the docket for this ICR).

Respondent's obligation to respond: Some collections in this ICR are mandatory; some are required to obtain or retain benefits (e.g., relaxed regulatory requirements) pursuant to the WQS Regulation; and, some are voluntary.

Estimated number of respondents: 2,693.

Frequency of response: Variable depending on type of information collected (once every three years; annually; on occasion or as necessary; or, only once).

Total estimated burden: From 376,097 to 514,987 hours per year. Burden is defined at 5 CFR 1320.03(b).

Total estimated cost: From $17,103,064 to $23,173,945 of labor costs per year, and $263,520 of operations and maintenance costs per year. There are no annualized capital costs.

Changes in Estimates: There is a decrease of 226,040 hours in the total upper estimates of respondent burden compared with the combined burden of the three ICRs currently approved by OMB and consolidated in this ICR. This decrease reflects adjustments made to the EPA's burden estimates based on experience gained since the previous ICRs were approved.

Dated: June 6, 2018.
Deborah G. Nagle,
Acting Director, Office of Science and Technology.

[FR Doc. 2018-13027 Filed 6-14-18; 8:45 am]

BILLING CODE 6560-50-P